DEPARTMENT OF TRANSPORTATION

Federal Aviation Administration

14 CFR Part 39

[Docket No. FAA-2023-0169; Project Identifier MCAI-2022-00462-T; Amendment 39-22460; AD 2023-12-02]

RIN 2120-AA64

Airworthiness Directives; Bombardier, Inc., Airplanes

AGENCY: Federal Aviation Administration (FAA), DOT.

ACTION: Final rule.

SUMMARY: The FAA is adopting a new airworthiness directive (AD) for certain Bombardier, Inc., Model BD-700-1A10 and BD-700-1A11 airplanes. This AD was prompted by a determination that new or more restrictive airworthiness limitations are necessary. This AD requires revising the existing maintenance or inspection program, as applicable, to incorporate more restrictive airworthiness limitations. The FAA is issuing this AD to address the unsafe condition on these products.

DATES: This AD is effective August 7, 2023.

The Director of the Federal Register approved the incorporation by reference of certain publications listed in this AD as of August 7, 2023.

ADDRESSES:

AD Docket: You may examine the AD docket at regulations.gov under Docket No. FAA-2023-0169; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For service information identified in this final rule, contact Bombardier Business Aircraft Customer Response Center, 400 Côte-Vertu Road West, Dorval, Québec H4S 1Y9, Canada; telephone 514-855-2999; email ac.yul@aero.bombardier.com; website bombardier.com.

• You may view this service information at the FAA, Airworthiness Products Section, Operational Safety Branch, 2200 South 216th St., Des Moines, WA. For information on the availability of this material at the FAA, call 206-231-3195. It is also available at regulations.gov under Docket No. FAA-2023-0169.

FOR FURTHER INFORMATION CONTACT: Gabriel Kim, Aviation Safety Engineer, FAA, 1600 Stewart Avenue, Suite 410, Westbury, NY 11590; telephone 516-228-7300; email 9-avs-nyaco-cos@faa.gov.

SUPPLEMENTARY INFORMATION:

Background

The FAA issued a notice of proposed rulemaking (NPRM) to amend 14 CFR part 39 by adding an AD that would apply to certain Bombardier, Inc., Model BD-700-1A10 and -1A11 airplanes. The NPRM published in the Federal Register on February 27, 2023 (88 FR 12276). The NPRM was prompted by AD CF-2022-15, dated April 7, 2022, issued by Transport Canada, which is the aviation authority for Canada (referred to after this as the MCAI). The MCAI states that during a design review, it was discovered that three candidate certification maintenance requirements (CCMRs) which were dispositioned as maintenance review board report (MRBR) tasks had reached or exceeded the limit for escalation and that exceeding the CCMR limitations could result in unsafe conditions. The MCAI also states that Bombardier issued certification maintenance requirements (CMRs) to prevent escalation and reduce the interval, as applicable, for these tasks, which consist of a functional test of the landing-gear emergency extension; an operational test of the brake shutoff valve; and a visual check of the passenger-door vent-flap mechanism.

In the NPRM, the FAA proposed to require revising the existing maintenance or inspection program as applicable to incorporate more restrictive airworthiness limitations. The FAA is issuing this AD to address the following unsafe conditions:

• Dormant failure of the landing gear emergency extension system, which could lead to failure to extend the landing gear when normal gear extension has failed. This unsafe condition, if not addressed, could result in an annunciated failure to extend both main landing gears or all landing gears.

• Dormant failure of the brake shut off valve in the open state. This unsafe condition, if not addressed, could result in uncommanded braking during takeoff.

• Dormant failure of the vent flap assembly where it fails in the closed position, which could result in the failure to prevent the initiation of cabin pressurization when the passenger door is not fully closed, latched and locked. This unsafe condition, if not addressed, could result in the passenger door opening under pressure on ground or during flight.

You may examine the MCAI in the AD docket at regulations.gov under Docket No. FAA-2023-0169.

Discussion of Final Airworthiness Directive

Comments

The FAA received comments from an individual who supported the NPRM without change.

The FAA received additional comments from NetJets. The following presents the comments received on the NPRM and the FAA's response to each comment.

Request for Clarification on Repetitive Intervals

NetJets requested that the FAA clarify the repetitive intervals for the CMR tasks after initial accomplishment. NetJets pointed to the language in paragraph B of Transport Canada AD CF-2022-15, which states that after doing the initial actions at the time specified in Table 1 of Transport Canada AD CF-2022-15 (similar to Figure 1 to paragraph (g) of this AD), accomplishing the CMR tasks are to be done at the intervals specified in the applicable TLMC manual identified in Table 2 of the Transport Canada AD CF-2022-15 (similar to Figure 2 to paragraph (g) of this AD).

The FAA agrees that the repetitive interval is not specified in this AD; however, operators can find this information in the corresponding TLMC as identified in Figure 2 to paragraph (g) of this AD. Although Transport Canada AD CF-2022-15 requires both revising the maintenance program to include limitations, and doing certain repetitive actions and/or maintaining CDCCLs, this AD only requires the revision of the maintenance program. Requiring a revision of the maintenance program rather than requiring individual repetitive actions or maintaining CDCCLs requires operators to record AD compliance only at the time the revision to the program is made. Repetitive actions or maintaining the CDCCLs specified in the airworthiness limitations must be complied with in accordance with 14 CFR 91.403(c). This AD has not been changed in this regard.

Request To Clarify Initial Compliance Time for Certain Airplanes

NetJets requested clarification on initial compliance times for airplanes having more than 1,550 flight hours but have not previously accomplished the specific CMR or associated airplane maintenance manual (AMM) task.

The FAA agrees to clarify. For an airplane that has more than 1,550 flight hours, but has not previously accomplished an associated task, the initial compliance time is within 30 days after the effective date of this AD. Paragraph (g) of this AD specifies the initial compliance time is within the applicable time specified in Figure 1 to paragraph (g) of this AD, or within 30 days after the effective date of this AD, whichever occurs later. For example, for task 32-34-00-101, an airplane that has more than 1,550 flight hours is beyond the initial compliance time specified in Figure 1 to paragraph (g) of the AD, so the “within 30 days after the effective date of this AD” would come later. This AD has not been changed in this regard.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, this AD is adopted as proposed in the NPRM. None of the changes will increase the economic burden on any operator.

Related Service Information Under 1 CFR Part 51

The FAA reviewed the following AMM tasks from Bombardier.

• Tasks 32-34-00-101, “Functional Test of the Landing-Gear Emergency Extension;” 32-43-25-101, “Operational Test of the Brake Shutoff Valve;” and 52-11-00-106, “Visual Check of the Passenger-Door Vent-Flap Mechanism;” of Part 2, “Airworthiness Limitations,” of the Bombardier Global Express Time Limits/Maintenance Checks (TLMC), Publication No. BD-700 TLMC, Revision 34, dated March 1, 2022. (For obtaining the tasks for Bombardier Global Express TLMC, Publication No. BD-700 TLMC, use Document Identification No. GL 700 TLMC.)

• Tasks 32-34-00-101, “Functional Test of the Landing-Gear Emergency Extension;” 32-43-25-101, “Operational Test of the Brake Shutoff Valve;” and 52-11-00-101, “Visual Check of the Passenger-Door Vent-Flap Mechanism;” of Part 2, “Airworthiness Limitations,” of the Bombardier Global Express XRS TLMC, Publication No. BD-700 XRS TLMC, Revision 21, dated March 1, 2022. (For obtaining the tasks for Bombardier Global Express XRS TLMC, Publication No. BD-700 XRS TLMC, use Document Identification No. GL XRS TLMC.)

• Tasks 32-34-00-101, “Functional Test of the Landing-Gear Emergency Extension;” 32-43-25-101, “Operational Test of the Brake Shutoff Valve;” and 52-11-00-106, “Visual Check of the Passenger-Door Vent-Flap Mechanism;” of Part 2, “Airworthiness Limitations,” of the Bombardier Global 5000 TLMC, Publication No. BD-700 TLMC, Revision 25, dated March 1, 2022. (For obtaining the tasks for Bombardier Global 5000 TLMC, Publication No. BD-700 TLMC, use Document Identification No. GL 5000 TLMC.)

• Tasks 32-34-00-101, “Functional Test of the Landing-Gear Emergency Extension;” 32-43-25-101, “Operational Test of the Brake Shutoff Valve;” and 52-11-00-106, “Visual Check of the Passenger-Door Vent-Flap Mechanism;” of Part 2, “Airworthiness Limitations,” of the Bombardier Global 5000 Featuring Global Vision Flight Deck (GVFD) TLMC, Publication No. GL 5000 GVFD TLMC, Revision 15, dated March 1, 2022. (For obtaining the tasks for Bombardier Global 5000 Featuring GVFD TLMC, Publication No. GL 5000 GVFD TLMC, use Document Identification No. GL 5000 GVFD TLMC.)

• Tasks 32-34-00-101, “Functional Test of the Landing-Gear Emergency Extension;” 32-43-25-101, “Operational Test of the Brake Shutoff Valve;” and 52-11-00-106, “Visual Check of the Passenger-Door Vent-Flap Mechanism;” of Part 2, “Airworthiness Limitations,” of the Bombardier Global 6000 TLMC, Publication No. GL 6000 TLMC, Revision 15, dated March 1, 2022. (For obtaining the tasks for Bombardier Global 6000 TLMC, Publication No. GL 6000 TLMC, use Document Identification No. GL 6000 TLMC.)

This service information specifies more restrictive airworthiness limitations for CMRs. These documents are distinct since they apply to different airplane models in different configurations.

This service information is reasonably available because the interested parties have access to it through their normal course of business or by the means identified in the ADDRESSES section.

Costs of Compliance

The FAA estimates that this AD, if adopted as proposed, would affect 413 airplanes of U.S. registry. The FAA estimates the following costs to comply with this AD:

The FAA has determined that revising the maintenance or inspection program takes an average of 90 work-hours per operator, although the agency recognizes that this number may vary from operator to operator. Since operators incorporate maintenance or inspection program changes for their affected fleet(s), the FAA has determined that a per-operator estimate is more accurate than a per-airplane estimate. Therefore, the agency estimates the average total cost per operator to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2023-12-02 Bombardier, Inc.: Amendment 39-22460; Docket No. FAA-2023-0169; Project Identifier MCAI-2022-00462-T.

(a) Effective Date

This airworthiness directive (AD) is effective August 7, 2023.

(b) Affected ADs

None.

(c) Applicability

This AD applies to Bombardier, Inc., Model BD-700-1A10 and BD-700-1A11 airplanes, certificated in any category, having serial numbers 9002 through 9860 inclusive, 9862 through 9871 inclusive, 9873 through 9879 inclusive, 60005, 60024, 60030, 60032, 60037, 60043, 60045, 60049, 60056, 60057, 60061 and 60068.

(d) Subject

Air Transport Association (ATA) of America Code 05, Time Limits/Maintenance Checks.

(e) Unsafe Condition

This AD was prompted by a determination that more restrictive airworthiness limitations are necessary. The FAA is issuing this AD to address the unsafe conditions identified in paragraphs (e)(1) through (3) of this AD.

(1) Dormant failure of the landing gear emergency extension system, which could lead to failure to extend the landing gear when normal gear extension has failed. This unsafe condition, if not addressed, could result in an annunciated failure to extend both main landing gears or all landing gears.

(2) Dormant failure of the brake shut off valve in the open state. This unsafe condition, if not addressed, could result in uncommanded braking during take-off.

(3) Dormant failure of the vent flap assembly where it fails in the closed position, which could result in the failure to prevent the initiation of cabin pressurization when the passenger door is not fully closed, latched and locked. This unsafe condition, if not addressed, could result in the passenger door opening under pressure on ground or during flight.

(f) Compliance

Comply with this AD within the compliance times specified, unless already done.

(g) Maintenance or Inspection Program Revision

Within 30 days from the effective date of this AD, revise the existing maintenance or inspection program, as applicable, to incorporate the information specified in the certification maintenance requirements (CMR) tasks identified in Figure 1 to paragraph (g) of this AD of Part 2, “Airworthiness Limitations,” of the applicable Time Limits/Maintenance Checks (TLMC) manuals identified in Figure 2 to paragraph (g) of this AD. The initial compliance time for doing the tasks is at the applicable time specified in Figure 1 to paragraph (g) of this AD, or within 30 days after the effective date of this AD, whichever occurs later.

Figure 1 to paragraph (g)—New CMR Tasks

BILLING CODE 4910-13-P

Figure 2 to paragraph (g)—Applicable TLMCs

BILLING CODE 4910-13-C

(h) No Alternative Actions or Intervals

After the existing maintenance or inspection program has been revised as required by paragraph (g) of this AD, no alternative actions (e.g., inspections) or intervals may be used unless the actions or intervals are approved as an alternative method of compliance (AMOC) in accordance with the procedures specified in paragraph (i)(1) of this AD.

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to ATTN: Program Manager, Continuing Operational Safety, at the address identified in paragraph (j)(2) of this AD or email to: 9-avs-nyaco-cos@faa.gov. If mailing information, also submit information by email. Before using any approved AMOC, notify your appropriate principal inspector, or lacking a principal inspector, the manager of the responsible Flight Standards Office.

(2) Contacting the Manufacturer: For any requirement in this AD to obtain instructions from a manufacturer, the instructions must be accomplished using a method approved by the Manager, New York ACO Branch, FAA; or Transport Canada or Bombardier, Inc.'s Transport Canada Design Approval Organization (DAO). If approved by the DAO, the approval must include the DAO-authorized signature.

(j) Additional Information

(1) Refer to Transport Canada AD CF-2022-15, dated April 7, 2022, for related information. This Transport Canada AD may be found in the AD docket at regulations.gov under Docket No. FAA-2023-0169.

(2) For more information about this AD, contact Gabriel Kim, Aviation Safety Engineer, FAA, 1600 Stewart Avenue, Suite 410, Westbury, NY 11590; telephone 516-228-7300; email 9-avs-nyaco-cos@faa.gov.

(k) Material Incorporated by Reference

(1) The Director of the Federal Register approved the incorporation by reference of the service information listed in this paragraph under 5 U.S.C. 552(a) and 1 CFR part 51.

(2) You must use this service information as applicable to do the actions required by this AD, unless this AD specifies otherwise.

(i) Task 32-34-00-101, “Functional Test of the Landing-Gear Emergency Extension,” of Part 2, “Airworthiness Limitations,” of the Bombardier Global Express Time Limit/Maintenance Check manual (TLMC), Publication No. BD-700 TLMC, Revision 34, dated March 1, 2022.

Note 1 to paragraph (k)(2)(i): For obtaining the tasks specified in paragraphs (k)(2)(i) through (iii) of this AD for Bombardier Global Express TLMC, Publication No. BD-700 TLMC, Revision 34, dated March 1, 2022, use Document Identification No. GL 700 TLMC.

(ii) Task 32-43-25-101, “Operational Test of the Brake Shutoff Valve,” of Part 2, “Airworthiness Limitations,” of the Bombardier Global Express TLMC, Publication No. BD-700 TLMC, Revision 34, dated March 1, 2022.

(iii) Task 52-11-00-106, “Visual Check of the Passenger-Door Vent-Flap Mechanism,” of Part 2, “Airworthiness Limitations,” of the Bombardier Global Express TLMC, Publication No. BD-700 TLMC, Revision 34, dated March 1, 2022.

(iv) Task 32-34-00-101, “Functional Test of the Landing-Gear Emergency Extension,” of Part 2, “Airworthiness Limitations,” of the Bombardier Global Express XRS TLMC, Publication No. BD-700 XRS TLMC, Revision 21, dated March 1, 2022.

Note 2 to paragraph (k)(2)(iv): For obtaining the tasks specified in paragraphs (k)(2)(iv) through (vi) of this AD for Bombardier Global Express XRS TLMC, Publication No. BD-700 XRS TLMC, use Document Identification No. GL XRS TLMC.

(v) Task 32-43-25-101, “Operational Test of the Brake Shutoff Valve,” of Part 2, “Airworthiness Limitations,” of the Bombardier Global Express XRS TLMC, Publication No. BD-700 XRS TLMC, Revision 21, dated March 1, 2022.

(vi) Task 52-11-00-106, “Visual Check of the Passenger-Door Vent-Flap Mechanism,” of Part 2, “Airworthiness Limitations,” of the Bombardier Global Express XRS TLMC, Publication No. BD-700 XRS TLMC, Revision 21, dated March 1, 2022.

(vii) Task 32-34-00-101, “Functional Test of the Landing-Gear Emergency Extension,” of Part 2, “Airworthiness Limitations,” of the Bombardier Global 5000 TLMC, Publication No. BD-700 TLMC, Revision 25, dated March 1, 2022.

Note 3 to paragraph (k)(2)(vii): For obtaining the tasks specified in paragraphs (k)(2)(vii) through (ix) of this AD for Bombardier Global 5000 TLMC, Publication No. BD-700 TLMC, use Document Identification No. GL 5000 TLMC.

(viii) Task 32-43-25-101, “Operational Test of the Brake Shutoff Valve,” of Part 2, “Airworthiness Limitations,” of the Bombardier Global 5000 TLMC, Publication No. BD-700 TLMC, Revision 25, dated March 1, 2022.

(ix) Task 52-11-00-106, “Visual Check of the Passenger-Door Vent-Flap Mechanism,” of Part 2, “Airworthiness Limitations,” of the Bombardier Global 5000 TLMC, Publication No. BD-700 TLMC, Revision 25, dated March 1, 2022.

(x) Task 32-34-00-101, “Functional Test of the Landing-Gear Emergency Extension,” of Part 2, “Airworthiness Limitations,” of the Bombardier Global 5000 Featuring Global Vision Flight Deck (GVFD) TLMC, Publication No. GL 5000 GVFD TLMC, Revision 15, dated March 1, 2022.

Note 4 to paragraph (k)(2)(x): For obtaining the tasks specified in paragraphs (k)(2)(x) through (xii) of this AD for Bombardier Global 5000 Featuring GVFD TLMC, Publication No. GL 5000 GVFD TLMC, use Document Identification No. GL 5000 GVFD TLMC.

(xi) Task 32-43-25-101, “Operational Test of the Brake Shutoff Valve,” of Part 2, “Airworthiness Limitations,” of the Bombardier Global 5000 Featuring GVFD TLMC, Publication No. GL 5000 GVFD TLMC, Revision 15, dated March 1, 2022.

(xii) Task 52-11-00-106, “Visual Check of the Passenger-Door Vent-Flap Mechanism,” of Part 2, “Airworthiness Limitations,” of the Bombardier Global 5000 Featuring GVFD, Publication No. GL 5000 GVFD TLMC, Revision 15, dated March 1, 2022.

(xiii) Task 32-34-00-101, “Functional Test of the Landing-Gear Emergency Extension,” of Part 2, “Airworthiness Limitations,” of the Bombardier Global 6000 TLMC, Publication No. GL 6000 TLMC, Revision 15, dated March 1, 2022.

Note 5 to paragraph (k)(2)(xiii): For obtaining the tasks specified in paragraphs (xiii) through (xv) of this AD for Bombardier Global 6000 TLMC, Publication No. GL 6000 TLMC, use Document Identification No. GL 6000 TLMC.

(xiv) Task 32-43-25-101, “Operational Test of the Brake Shutoff Valve,” of Part 2, “Airworthiness Limitations,” of the Bombardier Global 6000 TLMC, Publication No. GL 6000 TLMC, Revision 15, dated March 1, 2022.

(xv) Task 52-11-00-106, “Visual Check of the Passenger-Door Vent-Flap Mechanism,” of Part 2, “Airworthiness Limitations,” of the Bombardier Global 6000 TLMC, Publication No. GL 6000 TLMC, Revision 15, dated March 1, 2022.

(3) For service information identified in this AD, contact Bombardier Business Aircraft Customer Response Center, 400 Côte-Vertu Road West, Dorval, Québec H4S 1Y9, Canada; telephone 514-855-2999; email ac.yul@aero.bombardier.com; website bombardier.com.

(4) You may view this service information at the FAA, Airworthiness Products Section, Operational Safety Branch, 2200 South 216th St., Des Moines, WA. For information on the availability of this material at the FAA, call 206-231-3195.

(5) You may view this service information that is incorporated by reference at the National Archives and Records Administration (NARA). For information on the availability of this material at NARA, email fr.inspection@nara.gov, or go to: www.archives.gov/federal-register/cfr/ibr-locations.html.

Issued on June 12, 2023.
Ross Landes,
Deputy Director for Regulatory Operations, Compliance & Airworthiness Division, Aircraft Certification Service.

[FR Doc. 2023-14001 Filed 6-30-23; 8:45 am]

BILLING CODE 4910-13-P